NUCLEAR REGULATORY COMMISSION

Office of Nuclear Material Safety and Safeguards Consolidated Decommissioning Guidance; Notice of Availability

AGENCY: Nuclear Regulatory Commission.

ACTION: Notice of availability.

SUMMARY: The Nuclear Regulatory Commission's (NRC's) Office of Nuclear Material Safety and Safeguards (NMSS) is announcing the availability of the three volumes (Revision 1 of Volume 1, and final Volumes 2 and 3) of NUREG-1757, “Consolidated NMSS Decommissioning Guidance.” The first volume is “Consolidated NMSS Decommissioning Guidance: Decommissioning Process for Materials Licensees” (NUREG-1757, Vol. 1, Rev. 1), which provides guidance for planning and implementing the termination of materials licenses. The second volume, “Consolidated NMSS Decommissioning Guidance: Characterization, Survey, and Determination of Radiological Criteria” (NUREG-1757, Vol. 2), provides guidance for compliance with the radiological criteria for termination of licenses. The third volume, “Consolidated NMSS Decommissioning Guidance: Financial Assurance, Recordkeeping, and Timeliness” (NUREG-1757, Vol. 3), provides guidance for compliance with the financial assurance, recordkeeping, and timeliness criteria for decommissioning of materials facilities.

The guidance is intended for NRC staff, licensees, and the public. The guidance consolidation effort is supportive of the NRC's Strategic Plan performance goals to make NRC activities and decisions more effective, efficient, and realistic and to reduce unnecessary regulatory burden.

ADDRESSES: Volumes 1, 2, and 3 of NUREG-1757 are available for inspection and copying for a fee at the Commission's Public Document Room, U.S. NRC's Headquarters Building, 11555 Rockville Pike (First Floor), Rockville, Maryland. The Public Document Room is open from 7:45 a.m. to 4:15 p.m., Monday through Friday, except on Federal holidays. NUREG-1757 also is available electronically from the ADAMS Electronic Reading Room on the NRC Web site at: http://www.nrc.gov/reading-rm/adams.html, and on the NRC Web site at: http://www.nrc.gov/reading-rm/doc-collections/nuregs/staff/sr1757/.

Copies of NUREG-1757 also may be purchased from one of these two sources: (1) The Superintendent of Documents, U.S. Government Printing Office, Mail Stop: SSOP, Washington, DC 20402-0001; Internet: http://bookstore.gpo.gov/; telephone: 202-512-1800; fax: 202-512-2250; or (2) The National Technical Information Service, Springfield, VA 22161-0002, Internet: www.ntis.gov; telephone 1-800-553-6847 or, locally, 703-605-6000.

FOR FURTHER INFORMATION CONTACT: Duane W. Schmidt, Mail Stop: T-7F27, U.S. Nuclear Regulatory Commission, Washington, DC 20555-0001. Telephone: (301) 415-6919; Internet: dws2@nrc.gov.

SUPPLEMENTARY INFORMATION:

Background

As part of its redesign of the materials license program, NMSS has consolidated and updated numerous decommissioning guidance documents into a three-volume NUREG report, NUREG-1757, “Consolidated NMSS Decommissioning Guidance.” Information on the overall decommissioning guidance consolidation and updating project can be found in the Federal Register notice publishing the plan for the project (66 FR 21793; May 1, 2001). NUREG-1757 provides guidance for planning and implementing license termination under the License Termination Rule (10 CFR part 20, subpart E) (LTR). This NUREG report addresses compliance with the radiological criteria for license termination of the LTR, and it incorporates the risk-informed and performance-based alternatives of the rule. This NUREG also provides guidance for compliance with the requirements for financial assurance and recordkeeping for decommissioning and timeliness in decommissioning of materials facilities.

The approaches described in NUREG-1757 help to identify the information (subject matter and level of detail) needed for a wide range of radioactive materials licensees to meet the financial assurance, recordkeeping, and timeliness requirements for decommissioning and to terminate a license. NUREG-1757 describes and makes available to the public: (1) Methods acceptable to the NRC staff in implementing specific parts of the Commission's regulations; (2) techniques and criteria used by the staff in evaluating decommissioning actions; and (3) guidance to licensees responsible for decommissioning NRC-licensed sites.

NUREG-1757 updates and builds upon the risk-informed approach used in the NMSS Decommissioning Handbook (NUREG/BR-0241, “NMSS Handbook for Decommissioning Fuel Cycle and Materials Facilities,” March 1997) and the “NMSS Decommissioning Standard Review Plan,” NUREG-1727, September 2000. The three volumes of NUREG-1757 supersede NUREG/BR-0241 and NUREG-1727 in their entirety and should be used as guidance for decommissioning.

Discussion

The following table provides a summary of: (1) The guidance provided in each volume of NUREG-1757; (2) licensees to which the guidance applies; and (3) licensee submittals to which the guidance applies.

Volume | Subject | Licensees to which the guidance applies | Licensee submittals to which the guidance applies
1 | Decommissioning Process for Materials Licensees | Fuel cycle, fuel storage, and materials licensees | Decommissioning license amendment requests, decommissioning plans, and related compliance documents.
2 | Characterization, Survey, and Determination of Radiological Criteria | All licensees that must terminate licenses under the LTR (fuel cycle, fuel storage, materials, and reactor licensees) | Decommissioning license amendment requests, decommissioning plans, license termination plans, and related compliance documents.
3. | Financial Assurance, Recordkeeping, and Timeliness | Fuel cycle, fuel storage, and materials licensees | Financial assurance plans and instruments, recordkeeping plans, decommissioning license amendment requests, decommissioning plans, and related compliance documents.

On September 26, 2002 (67 FR 60706), NRC announced the availability of final NUREG-1757, Volume 1, entitled “Consolidated NMSS Decommissioning Guidance: Decommissioning Process for Materials Licensees.” In order to ensure consistency between the volumes of this NUREG report and to provide the most recent regulatory guidance available, the NRC staff decided that republication of Volume 1, as Revision 1, was appropriate. Revision 1 was developed concurrently with the finalization of Volumes 2 and 3 of this NUREG report. The major changes in Revision 1 include: (1) Revised guidance regarding issuance of Federal Register notifications during the decommissioning process; (2) removal of example Federal Register notices; (3) guidance on the disposition of solid materials; (4) updated guidance regarding staff actions to comply with the National Environmental Policy Act; and (5) references to the U.S. Environmental Protection Agency/NRC Memorandum of Understanding for consultation on decommissioning sites (67 FR 65375; October 24, 2002). Volume 1, Revision 1 provides guidance for developing those parts of a decommissioning plan addressing general site description and current radiological conditions; decommissioning activities, management, and quality assurance; and modifications to decommissioning programs and procedures.

On September 26, 2002 (67 FR 60707), NRC announced the availability and solicited comments on draft NUREG-1757, Volume 2, entitled “Consolidated NMSS Decommissioning Guidance: Characterization, Survey, and Determination of Radiological Criteria.” NRC staff reviewed and considered the comments and incorporated them, where appropriate, in the final Volume 2. Appendix P of the final Volume 2 provides the public comments received and the NRC staff response to those comments. The final Volume 2 provides guidance for demonstrating compliance with the LTR. Specifically, final Volume 2 provides guidance on facility radiation surveys, especially final status surveys; dose assessments; and demonstrations that residual radioactivity levels are as low as is reasonably achievable (ALARA).

In addition, final Volume 2 provides guidance for identifying and accounting for potential dose contributions from partial site releases (see Final Rule, “Releasing Part of a Power Reactor Site or Facility for Unrestricted Use Before the NRC Approves the License Termination Plan;” 68 FR 19711; April 22, 2003). Final Volume 2 provides guidance on how to account for dose contributions from previously released areas to ensure that the entire site, including the previously released areas, meets the radiological criteria of the LTR.

On January 10, 2003 (68 FR 1487), NRC announced the availability and solicited comments on draft NUREG-1757, Volume 3, entitled “Consolidated NMSS Decommissioning Guidance: Financial Assurance, Recordkeeping, and Timeliness.” NRC staff reviewed and considered the comments and incorporated them, where appropriate, in the final Volume 3. Appendix B of the final Volume 3 provides the public comments received and the NRC staff response to those comments. The final Volume 3 provides guidance for demonstrating compliance with the financial assurance, recordkeeping, and timeliness requirements for decommissioning materials facilities.

While NUREG-1757 is intended for use by applicants, licensees, and NRC license reviewers, it is also available to other NRC personnel, Agreement State staff, and the public. NRC staff will use the policies and procedures discussed in NUREG-1757 to evaluate a licensee's decommissioning actions, financial assurance and recordkeeping for decommissioning, and timeliness in decommissioning.

NUREG-1757 is not a substitute for regulations, and compliance with it is not required. Methods and solutions different from those in NUREG-1757 will be acceptable, if they provide a basis for concluding that the decommissioning actions are in compliance with the Commission's regulations.

Small Business Regulatory Enforcement Fairness Act

In accordance with the Small Business Regulatory Enforcement Fairness Act of 1996, the NRC has determined that this action is not a major rule and has verified this determination with the Office of Information and Regulatory Affairs, Office of Management and Budget.

Dated at Rockville, MD, this 11th day of September, 2003.
For the Nuclear Regulatory Commission.
Daniel M. Gillen,
Chief, Decommissioning Branch, Division of Waste Management, Office of Nuclear Material Safety and Safeguards.

[FR Doc. 03-23691 Filed 9-16-03; 8:45 am]

BILLING CODE 7590-01-P